DEPARTMENT OF JUSTICE

Notice of Lodging Proposed Consent Decree

In accordance with Departmental Policy, 28 CFR 50.7, notice is hereby given that a proposed consent decree in United States v. Remi Bourdeau, Civil Action No. 1:02:CV:250 (D. Vt.), was lodged with the United States District Court for the District of Vermont on October 1, 2002. This proposed Consent Decree concerns a complaint filed by the United States of America against Remi Bourdeau, pursuant to section 301 of the Clean Water Act, 33 U.S.C. 1311(a), to obtain injunctive relief from and impose civil penalties against the Defendant for causing fill and/or dredged material to be discharged into waters of the United States at a site located in Sheldon, Vermont in Franklin County.

The proposed Consent Decree requires Remi Bourdeau to pay a $15,000 civil penalty, complete restoration work in the wetland, and implement a monitoring plan to periodically assess the success of the restoration work. In addition, the consent decree prohibits the defendant from discharging any pollutant into waters of the United States, unless such discharge complies with the provisions of the Clean Water Act and its implementing regulations.

The Department of Justice will accept written comments relating to this proposed Consent Decree for thirty (30) days from the date of publication of this notice. Please address comments to Joseph Perella, Assistant U.S. Attorney, P.O. Box 570, Burlington, VT 05402-0570 and refer to this case name and civil action number.

The proposed Consent Decree may be examined at the Clerk's Office, United States District Court for the District of Vermont at 11 Elmwood Ave., Burlington, Vermont. In addition, the proposed Consent Decree may be viewed on the World Wide Web at http://www.usdoj.gov/enrd/enrd-home.html.

Joseph Perella,
Assistant United States Attorney, United States Attorney's Office, Burlington, Vermont.

[FR Doc. 02-26509 Filed 10-17-02; 8:45 am]

BILLING CODE 4410-15-M